DEPARTMENT OF TRANSPORTATION

Federal Highway Administration

Notice of Final Federal Agency Actions on Proposed Highway in Connecticut

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(l)(1). The actions relate to the North Hillside Road Extension in Mansfield, Connecticut. Those actions grant licenses, permits, and approvals for the project.

DATES: By this notice, the FHWA is advising the public of final agency actions subject to 23 U.S.C. 139(l)(1). A claim seeking judicial review of the Federal agency actions on the highway project will be barred unless the claim is filed on or before October 24, 2012. If the Federal law that authorizes judicial review of a claim provides a time period of less than 180 days for filing such claim, then that shorter time period still applies.

FOR FURTHER INFORMATION CONTACT: Mrs. Amy Jackson-Grove, Division Administrator, Federal Highway Administration, 628-2 Hebron Avenue, Suite 303, Glastonbury, Connecticut 06033; telephone: (860) 659-6703; email: Amy.Jackson-Grove@dot.gov. The FHWA Connecticut Division Office's normal business hours are 7:45 a.m. to 4:15 p.m. (eastern time). You may also contact Mr. Glenn Elliott, Environmental Protection Specialist, Federal Highway Administration, 628-2 Hebron Avenue, Suite 303, Glastonbury, Connecticut 06033; telephone: (860) 494-7577; email: Glenn.Elliott@dot.gov.

SUPPLEMENTARY INFORMATION: Notice is hereby given that the FHWA and other Federal agencies have taken final agency actions by issuing licenses, permits, and approvals for the following highway project in the State of Connecticut: North Hillside Road Extension in Mansfield, Connecticut.

Project description: The selected alternative, Roadway Alignment Option A and North Campus Development Alternative 2C include the construction of an approximately 3,400-foot, 2-lane, 32-foot wide road through a portion of land adjacent to the University of Connecticut (University) Storrs core academic campus known as the “North Campus.” The project will provide an alternative entrance to the University, relieve traffic on surrounding roads, and facilitate the development of the North Campus. Crossing A is designed as a 40-foot precast concrete rigid frame with open bottom designed to comply with the Connecticut Department of Energy and Environmental Protection (CT DEEP, formerly the Connecticut Department of Environmental Protection) and Army Corps of Engineers stream crossing standards. Crossing C is designed as a 76-foot clear span bridge to completely avoid wetland impacts and maintain vernal pool habitat connectivity for semi-aquatic resources and terrestrial wildlife.

The actions by the Federal agencies, and the laws under which such actions were taken, are described in the Final Environmental Impact Statement (FEIS) North Hillside Road Extension, approved on December, 6, 2011, in the FHWA Record of Decision (ROD) issued on April 4, 2012, and in other documents in the FHWA administrative record. The FEIS, ROD, and other documents in the FHWA administrative record file are available by contacting the FHWA. The FHWA FEIS and ROD can be viewed and downloaded from the project Web site at http://www.envpolicy.uconn.edu/eie.html.

This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: April 26, 2012.
Amy Jackson-Grove,
Division Administrator, Hartford.

[FR Doc. 2012-10769 Filed 5-3-12; 8:45 am]

BILLING CODE P